INTERNATIONAL TRADE COMMISSION

[USITC SE-22-052]

Sunshine Act Meetings

Agency Holding the Meeting: United States International Trade Commission.

TIME AND DATE: December 5, 2022 at 11:00 a.m.

PLACE: Room 101, 500 E Street SW, Washington, DC 20436, Telephone: (202) 205-2000.

STATUS: Open to the public.

MATTERS TO BE CONSIDERED:

1. Agendas for future meetings: none.

2. Minutes.

3. Ratification List.

4. Commission vote on Inv. Nos. 731-TA-540 and 541 (Fifth Review) (Certain Welded Stainless Steel Pipe from South Korea and Taiwan). The Commission currently is scheduled to complete and file its determinations and views of the Commission on December 13, 2022.

5. Outstanding action jackets: none.

CONTACT PERSON FOR MORE INFORMATION: Tyrell Burch, Management Analyst, 202-205-2595.

The Commission is holding the meeting under the Government in the Sunshine Act, 5 U.S.C. 552(b). In accordance with Commission policy, subject matter listed above, not disposed of at the scheduled meeting, may be carried over to the agenda of the following meeting. Earlier notification of this meeting was not possible.

By order of the Commission.
Issued: November 29, 2022.
William Bishop,
Supervisory Hearings and Information Officer.

[FR Doc. 2022-26352 Filed 11-30-22; 11:15 am]

BILLING CODE 7020-02-P